DEPARTMENT OF LABOR

Employment and Training Administration

[TA-W-71,620]

Circuit City, Coon Rapids, MN; Notice of Termination of Investigation

Pursuant to Section 223 of the Trade Act of 1974, as amended, an investigation was initiated on July 9, 2009 in response to a worker petition filed by the Minnesota State Workforce Office on behalf of workers of Circuit City, Coon Rapids, Minnesota.

The petitioner requested that this petition be withdrawn. Consequently, further investigation in this case would serve no purpose, and the investigation under this petition has been terminated.

Signed at Washington, DC, this 14th day of July 2009.
Richard Church,
Certifying Officer, Division of Trade Adjustment Assistance.

[FR Doc. E9-18062 Filed 7-28-09; 8:45 am]

BILLING CODE 4510-FN-P